NATIONAL AERONAUTICS AND SPACE ADMINISTRATION

[Notice 00-073]

Notice of Prospective Patent License

AGENCY: National Aeronautics and Space Administration.

ACTION: Notice of prospective patent license.

SUMMARY: NASA hereby gives notice that Vehicle Enhancement Systems, Inc., of Rock Hill, SC 29731, has applied for an exclusive license to practice the invention described in NASA Case Number LAR 15601-1, entitled “Base Passive Porosity for Drag Reduction,” for which a United States Patent Application was filed by the United States of America as represented by the Administrator of the National Aeronautics and Space Administration. Written objections to the prospective grant of a license should be sent to Langley Research Center.

DATE: Responses to this notice must be received by September 5, 2000.

FOR FURTHER INFORMATION CONTACT: Helen M. Galus, Patent Attorney, Langley Research Center, Mail Stop 212, Hampton, VA 23681-2199; Telephone 757-864-3227; Fax 757-864-9190.

Dated: June 27, 2000.
Edward A. Frankle,
General Counsel.

[FR Doc. 00-16900 Filed 7-3-00; 8:45 am]

BILLING CODE 7510-01-P